DEPARTMENT OF THE INTERIOR

Bureau of Indian Affairs

Renewal of Agency Information Collection for Federal Acknowledgment of Indian Tribes; Request for Comments

AGENCY: Bureau of Indian Affairs, Interior.

ACTION: Notice of submission to the Office of Management and Budget.

SUMMARY: As required by the Paperwork Reduction Act, the Department of the Interior, Office of Federal Acknowledgment (OFA) is submitting the information collection Documented Petitions for the Federal Acknowledgment as an Indian Tribe, 25 CFR part 83 to the Office of Management and Budget (OMB) for renewal. The information collection is currently authorized by OMB Control Number 1076-0104, which expires April 30, 2010. The information collection allows OFA to determine whether an Indian group meets the regulatory criteria for acknowledgment as an Indian Tribe.

DATES: Interested persons are invited to submit comments on or before June 1, 2010.

ADDRESSES: You may submit comments on the information collection to the Desk Officer for Department of the Interior at the Office of Management and Budget, by facsimile to (202) 395-5806 or you may send an e-mail to: OIRA_DOCKET@omb.eop.gov. Please send a copy of your comments to R. Lee Fleming, Director, Office of Federal Acknowledgment, Assistant Secretary—Indian Affairs, 1951 Constitution Avenue, NW., MS-34B SIB, Washington, DC 20240; facsimile: (202) 219-3008; e-mail: Lee.Fleming@bia.gov.

FOR FURTHER INFORMATION CONTACT: R. Lee Fleming (202) 513-7650.

SUPPLEMENTARY INFORMATION:

I. Abstract

OFA is seeking renewal of the approval for the information collection conducted under 25 CFR part 83, to establish whether a petitioning group has the characteristics necessary to be acknowledged as having a government-to-government relationship with the United States. Acknowledgment as an Indian Tribe is a prerequisite to the protection, services and benefits of the Federal government available to Indian Tribes by virtue of their status as Indian Tribes. Approval for this collection expires April 30, 2010. Three forms are used as part of this information collection; but no changes to the forms are proposed as part of this renewal. No third party notification or public disclosure burden is associated with this collection. There is no change to the approved burden hours for this information collection.

II. Request for Comments

OFA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires April 30, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0104.

Title: Documented Petitions for Federal Acknowledgment as an Indian Tribe, 25 CFR Part 83.

Brief Description of Collection: Submission of this information allows OFA to review applications for the Federal acknowledgment of a group as an Indian Tribe. The acknowledgment regulations at 25 CFR part 83 contain seven criteria that unrecognized groups seeking Federal acknowledgment as Indian Tribes must demonstrate that they meet. Information collected from petitioning groups under these regulations provide anthropological, genealogical and historical data used by the Assistant Secretary—Indian Affairs to establish whether a petitioning group has the characteristics necessary to be acknowledged as having a government-to-government relationship with the United States. Respondents are not required to retain copies of information submitted to OFA but will probably maintain copies for their own use; therefore, there is no recordkeeping requirement included in this information collection. Response is required to obtain a benefit.

Type of Review: Extension without change of a currently approved collection.

Respondents: Groups petitioning for Federal acknowledgment as Indian Tribes.

Number of Respondents: 10 per year, on average.

Total Number of Responses: 10 per year, on average.

Frequency of Response: Once.

Estimated Time per Response: 2,075 hours.

Estimated Total Annual Burden: 20,750 hours.

Dated: April 20, 2010.
Alvin Foster,
Acting Chief Information Officer—Indian Affairs.

[FR Doc. 2010-9909 Filed 4-28-10; 8:45 am]

BILLING CODE 4310-G1-P